DEPARTMENT OF LABOR

Employment and Training Administration

Office of Policy and Research; Proposed Collection; Comment Request

ACTION: Notice.

SUMMARY: The Department of Labor, as part of its continuing effort to reduce paperwork and respondents burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Office of Policy and Research is soliciting comments concerning the proposed extension of the collection of the Occupational Code Request (OCR) information.

A copy of the proposed information collection request (ICR) can be obtained by contacting the office listed below in the addressee section of this notice.

DATES: Written comments must be submitted to the office listed in the addressee's section below on or before July 7, 2000.

ADDRESS: Jim Woods, Office of Policy and Research, Employment and Training Administration, Room N-5637, 200 Constitution Avenue, NW., Washington, DC, 20210, (202) 219-7161 (This is not a toll free number), FAX (202) 219-9186; E-Mail; o*net@doleta.gov.

SUPPLEMENTARY INFORMATION:

I. Background

The Dictionary of Occupational Titles (DOT) classifies nearly all jobs in the United States economy. However, new jobs are constantly evolving, and old ones are eliminated as technology and other facts change. As the O*NET (Occupational Information Network) system, the automated replacement of the DOT, is preparing for the implementation phase, the need for Occupational Code Requests (OCRs) remains.

The ETA 741 Form, the Occupational Code Request (OCR), was developed by the Occupational Analysis (OA) program, as a public service to the users of the revised DOT in an effort to help them in obtaining occupational codes, titles and definitions for jobs that they were unable to locate in the DOT. In addition, data provided on the OCR may also be useful indicators of potential occupations that should be studied as part of the new O*NET on-line system.

Use of the OCR is voluntary and is provided only (1) as a uniform guideline to the public and private sectors to submit information, and (2) to assist O*NET in identifying potential changes in occupations or emerging occupations.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

The Office of Policy and Research, while preparing for the implementation phase of O*NET, seeks to provide both the public and private sectors with needed occupational codes that cannot be located in the DOT. Therefore, the need for continuing an existing collection of this information is requested.

Type of Review: Extension (without change).

Agency: Employment and Training Administration.

Title: Occupational Code Request.

OMB Number: 1205-0137.

Affected Public: Federal Government, State or Local Government; Individuals; and Business or other for-profit/Not-for-profit institutions.

Total Respondents: 95.

Frequency: On occasion.

Average Time per Response: 30 minutes.

Estimated Total Burden Hours: 47 hours.

Total Burden Cost (capital/startup): None.

Total Burden Cost (operating/maintaining): $1119.10.

Comments submitted in response to this comment request will be summarized and/or included in the request for Office of Management and Budget approval of the information collection request; they will also become a matter of public record.

Dated: May 2, 2000.
Gerard F. Fiala,
Administrator, Office of Policy and Research.

[FR Doc. 00-11443 Filed 5-5-00; 8:45 am]

BILLING CODE 4510-30-M